DEPARTMENT OF COMMERCE

Foreign-Trade Zones Board

[Order No. 2035]

Designation of New Grantee; Foreign-Trade Zone 103, Grand Forks, North Dakota

Pursuant to its authority under the Foreign-Trade Zones Act of June 18, 1934, as amended (19 U.S.C. 81a-81u), the Foreign-Trade Zones Board (the Board) adopts the following Order:

The Foreign-Trade Zones (FTZ) Board (the Board) has considered the application (docketed June 21, 2017) submitted by the Grand Forks Regional Airport Authority, grantee of FTZ 103, requesting reissuance of the grant of authority for said zone to the Grand Forks Region Economic Development Corporation, which has accepted such reissuance subject to approval by the FTZ Board. Upon review, the Board finds that the requirements of the FTZ Act and the Board's regulations are satisfied, and that the proposal is in the public interest.

Therefore, the Board approves the application and recognizes the Grand Forks Region Economic Development Corporation as the new grantee for Foreign-Trade Zone 103, subject to the FTZ Act and the Board's regulations, including Section 400.13.

Dated: August 11, 2017.
Gary Taverman,
Deputy Assistant Secretary for AD/CVD Operations performing the non-exclusive functions and duties of the Assistant Secretary for Enforcement & Compliance, Alternate Chairman, Foreign-Trade Zones Board.

[FR Doc. 2017-17530 Filed 8-18-17; 8:45 am]

BILLING CODE 3510-DS-P